DEPARTMENT OF TRANSPORTATION

Federal Aviation Administration

14 CFR Part 39

[Docket No. FAA-2004-19987; Directorate Identifier 2004-NM-203-AD; Amendment 39-14105; AD 2005-11-03]

RIN 2120-AA64

Airworthiness Directives; McDonnell Douglas Model 717-200 Airplanes

AGENCY: Federal Aviation Administration (FAA), Department of Transportation (DOT).

ACTION: Final rule.

SUMMARY: The FAA is adopting a new airworthiness directive (AD) for certain McDonnell Douglas Model 717-200 airplanes. This AD requires replacing eight brake fuses of the hydraulic quantity limiter with new or modified and reidentified fuses. This AD is prompted by reports indicating that brake fuses of the hydraulic quantity limiter of the main landing gear have failed. We are issuing this AD to prevent loss of both hydraulic and brake systems if one fuse on each hydraulic system were to fail simultaneously, and consequent reduced controllability of the airplane.

DATES: This AD becomes effective July 1, 2005.

The incorporation by reference of a certain publication listed in the AD is approved by the Director of the Federal Register as of July 1, 2005.

ADDRESSES: For service information identified in this AD, contact Boeing Commercial Airplanes, Long Beach Division, 3855 Lakewood Boulevard, Long Beach, California 90846, Attention: Data and Service Management, Dept. C1-L5A (D800-0024).

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW, room PL-401, Washington, DC. This docket number is FAA-2004-19987; the directorate identifier for this docket is 2004-NM-203-AD.

FOR FURTHER INFORMATION CONTACT: Albert Lam, Aerospace Engineer, Cabin Safety/Mechanical and Environmental Systems Branch, ANM-150L, FAA, Los Angeles Aircraft Certification Office, 3960 Paramount Boulevard, Lakewood, California 90712-4137; telephone (562) 627-5346; fax (562) 627-5210.

SUPPLEMENTARY INFORMATION: The FAA proposed to amend 14 CFR part 39 with an AD for certain McDonnell Douglas Model 717-200 airplanes. That action, published in the Federal Register on January 5, 2005 (70 FR 731), proposed to require replacing eight brake fuses of the hydraulic quantity limiter with new or modified and reidentified fuses.

Comments

We provided the public the opportunity to participate in the development of this AD. We have considered the comments that have been submitted on the proposed AD.

Support for Proposed AD

One commenter supports the proposed AD.

Request to Refer to Vendor Part Numbers

One commenter has no technical objection to the proposed AD, but would like the vendor part numbers to be included with the Boeing part numbers in paragraphs (g) and (h) of the proposed AD. The commenter provided no justification for its request.

We do not agree. Paragraph (g) of the AD refers to Boeing Alert Service Bulletin 717-32A0031, dated September 10, 2004, as the appropriate source of service information for accomplishing the required replacement. Note (a) of paragraph 2.C.1. of the service bulletin identifies the vendor part numbers that correspond to the Boeing part numbers referenced in the AD. Therefore, we find it unnecessary to specify vendor part numbers in either paragraph (g) or (h) of the AD when the referenced service bulletin contains that information. We have made no change to the AD in this regard.

Conclusion

We have carefully reviewed the available data, including the comments that have been submitted, and determined that air safety and the public interest require adopting the AD as proposed.

Costs of Compliance

There are about 133 airplanes of the affected design in the worldwide fleet and 103 airplanes on the U.S. registry. The following table provides the estimated costs for U.S. operators to comply with this AD.

Estimated Costs
Action | Work hours | Average labor rate per hour | Parts | Cost per airplane
Option 1. Replacement with new brake fuses | 9 | $65 | No Charge | $585
Option 2. Replacement with modified and reidentified brake fuses | 13 | 65 | No Charge | 845

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-11-03 McDonnell Douglas:

Amendment 39-14105. Docket No. FAA-2004-19987; Directorate Identifier 2004-NM-203-AD.

Effective Date

(a) This AD becomes effective July 1, 2005.

Affected ADs

(b) None.

Applicability

(c) This AD applies to McDonnell Douglas Model 717-200 airplanes, fuselage numbers 5002 through 5134 inclusive; certificated in any category.

Unsafe Condition

(d) This AD was prompted by reports indicating that brake fuses of the hydraulic quantity limiter of the main landing gear (MLG) have failed. We are issuing this AD to prevent loss of both hydraulic and brake systems if one fuse on each hydraulic system were to fail simultaneously, and consequent reduced controllability of the airplane.

Compliance

(e) You are responsible for having the actions required by this AD performed within the compliance times specified, unless the actions have already been done.

Compliance Times

(f) At the applicable time in Table 1 of this AD, do the action required by paragraph (g) of this AD.

Table 1.—Compliance Times
For airplanes having— | Compliance time
(1) Less than 5,000 total flight cycles as of the effective date of this AD | Within 3,600 flight cycles after the effective date of this AD.
(2) 5,000 or more total flight cycles as of the effective date of this AD | Within 1,500 flight cycles after the effective date of this AD.

Replacement

(g) Replace the eight brake fuses of the hydraulic quantity limiter by doing either Option 1 or Option 2 in Table 2 of this AD in accordance with Boeing Alert Service Bulletin 717-32A0031, dated September 10, 2004.

Table 2.—Replacement
Option— | Replace eight fuses having part number (P/N) 7918282-5503 with—
1 | New fuses having P/N 7918282-5505.
2 | Modified and reidentified fuses having P/N 7918282-5505.

Note 1: Boeing Alert Service Bulletin 717-32A0031 refers to Parker Hannifin Corporation Stratoflex Products Division Service Bulletin 836SD-8-6-20, Revision 1, dated June 23, 2004, as an additional source of service information for modifying and reidentifying the brake fuses.

Parts Installation

(h) As of the effective date of this AD, no person may install a brake fuse, P/N 7918282-5503, on any airplane.

Alternative Methods of Compliance (AMOCs)

(i) The Manager, Los Angeles Aircraft Certification Office (ACO), FAA, has the authority to approve AMOCs for this AD, if requested in accordance with the procedures found in 14 CFR 39.19.

Material Incorporated by Reference

(j) You must use Boeing Alert Service Bulletin 717-32A0031, dated September 10, 2004, to perform the actions that are required by this AD, unless the AD specifies otherwise. The Director of the Federal Register approves the incorporation by reference of this document in accordance with 5 U.S.C. 552(a) and 1 CFR part 51. To get copies of the service information, contact Boeing Commercial Airplanes, Long Beach Division, 3855 Lakewood Boulevard, Long Beach, California 90846, Attention: Data and Service Management, Dept. C1-L5A (D800-0024). To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal_ register/code_of_ federal_regulations/ibr_locations.html.

Issued in Renton, Washington, on May 16, 2005.
Michael J. Kaszycki,
Acting Manager, Transport Airplane Directorate, Aircraft Certification Service.

[FR Doc. 05-10428 Filed 5-26-05; 8:45 am]

BILLING CODE 4910-13-P